DEPARTMENT OF EDUCATION

Applications for New Awards; Technical Assistance and Dissemination To Improve Services and Results for Children With Disabilities—Planning Grants for Increasing Instructional Time and Reducing Administrative Burdens

AGENCY: Office of Special Education and Rehabilitative Services, Department of Education.

ACTION: Notice; correction.

SUMMARY: On July 15, 2019, we published in the Federal Register a notice inviting applications (NIA) for new awards for fiscal year (FY) 2019 for Technical Assistance and Dissemination To Improve Services and Results for Children With Disabilities—Planning Grants for Increasing Instructional Time and Reducing Administrative Burdens program, Catalog of Federal Domestic Assistance (CFDA) number 84.326A. The NIA published with the incorrect application period, which should be 45 days instead of 30. We are also correcting the award size, which should be a range from $150,000 to $250,000, which updates the estimated number of awards from 10 to a range of 6 to 10.

DATES: This correction is applicable July 30, 2019.

FOR FURTHER INFORMATION CONTACT: David Egnor, U.S. Department of Education, 400 Maryland Avenue SW, Room 5163, Potomac Center Plaza, Washington, DC 20202-5108. Telephone: (202) 245-7334. Email: David.Egnor@ed.gov.

If you use a telecommunications device for the deaf (TDD) or a text telephone (TTY), call the Federal Relay Service (FRS), toll free, at 1-800-877-8339.

SUPPLEMENTARY INFORMATION: On July 15, 2019, we published in the Federal Register an NIA for new awards for FY 2019 for Technical Assistance and Dissemination To Improve Services and Results for Children With Disabilities—Planning Grants for Increasing Instructional Time and Reducing Administrative Burdens (84 FR 33762). In the NIA, an error was made regarding the application period, which should be 45 days instead of 30. With this correction, the deadline for transmittal of applications is August 29, 2019. In addition, we are correcting the award size from $150,000 to a range between $150,000 to $250,000. This correction to the award size is necessary because planning costs may vary from State to State. Consequently, the estimated number of awards are corrected from 10 to a range of 6 to 10. Applicants are not limited to a maximum award size of $150,000 for a project period of 12 months.

Corrections

In FR Doc. 2019-14890 appearing on page 33762 in the Federal Register on July 15, 2019, the following corrections are made:

1. On page 33762, under Dates at the bottom of the middle column, we are revising the Deadline for Transmittal of Applications so that the date reads as follows: August 29, 2019.

2. On page 33764, in section II. Award Information, in the right column, we are revising Maximum Award to read as follows:

Award Size: We recognize that planning costs may vary from State to State and anticipate awarding planning grants that range from $150,000 to $250,000 for a single budget period of 12 months.

3. On page 33764, in section II. Award Information, in the right column, we are revising Estimated Number of Awards to read as follows: Estimated Number of Awards: 6-10.

Program Authority: 20 U.S.C. 1463 and 1481.

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

Johnny W. Collett,
Assistant Secretary for Special Education and Rehabilitative Services.

[FR Doc. 2019-16135 Filed 7-29-19; 8:45 am]

BILLING CODE 4000-01-P